DEPARTMENT OF DEFENSE

Department of the Air Force

U.S. Air Force Exclusive Patent License Agency: Air Force Research Laboratory Information Directorate, Rome, New York

ACTION: Notice of intent to issue an exclusive patent license.

SUMMARY: Pursuant to the provisions of part 404 of Title 37, Code of Federal Regulations, which implements Public Law 96-517, as amended, the Department of the Air Force announces its intention to grant Advanced Automation Corporation, a corporation of New York, having a place of business at 201 Mill Street, Rome, New York 13440 an exclusive license in any right, title and interest the United States Air Force has in: U.S. Patent Application No. 12/932,344, filed on February 11, 2011 entitled “Ergonomically Designed Large Display Multipurpose Workstation.”

FOR FURTHER INFORMATION CONTACT: An exclusive license for this patent will be granted unless a written objection is received within fifteen (15) days from the date of publication of this Notice. Written objections should be sent to: Air Force Research Laboratory, Office of the Staff Judge Advocate, AFRL/RIJ, 26 Electronic Parkway, Rome, New York 13441-4514. Telephone: (315) 330-2087; Facsimile (315) 330-7583.

Henry Williams,
Acting Air Force Federal Register Liaison Officer.

[FR Doc. 2014-14700 Filed 6-23-14; 8:45 am]

BILLING CODE 5001-10-P